DEPARTMENT OF HEALTH AND HUMAN SERVICES

Centers for Disease Control and Prevention

National Institute for Occupational Safety and Health; Meeting

The National Institute for Occupational Safety and Health (NIOSH) of the Centers for Disease Control and Prevention (CDC) announces the following meeting:

Name: Conceptual Discussions for Quality Assurance Standards Module for Respiratory Protective Equipment.

Date and Time: October 16, 2003; 3 pm-5 pm.

Place: The Radisson Hotel at Waterfront Place, 2 Waterfront Place, Morgantown, West Virginia.

Status: This meeting is hosted by NIOSH and will be open to the public, limited only by the space available. The meeting room will accommodate approximately 175 people. Interested parties should make hotel reservations directly with the Radisson Hotel at Waterfront Place (304/296-1700 or 1-800-333-3333) before the cut-off date of October 2, 2003. The following special group rates have been negotiated for meeting guests: $66.00 per night for federal guests and $79.00 per night for non-federal guests. The NIOSH National Personal Protective Technology Laboratory (NPPTL) Public Meeting must be referenced to receive these special rates. Interested parties should confirm their attendance to this meeting by completing a registration form and forwarding it by e-mail (npptlevents@cdc.gov) or fax (304-285-4459) to the NIOSH Event Management Office. A registration form may be obtained from the NIOSH Homepage (www.cdc.gov/niosh) by selecting Conferences and then the event.

An opportunity to make presentations regarding the conceptual quality assurance standards module will be given. Requests to make such presentations at the public meeting should be made by e-mail (npptlevents@cdc.gov) to the NIOSH Event Management Office. All requests to present should include the name, address, telephone number, relevant business affiliations of the presenter, a brief summary of the presentation, and the approximate time requested for the presentation. Oral presentations should be limited to 15 minutes.

After reviewing the requests for presentations, NIOSH Event Management will notify each presenter of the approximate time that their presentation is scheduled to begin. If a participant is not present when their presentation is scheduled to begin, the remaining participants will be heard in order. At the conclusion of the meeting, an attempt will be made to allow presentations by any scheduled participants who missed their assigned times. Attendees who wish to speak but did not submit a request for the opportunity to make a presentation may be given this opportunity at the conclusion of the meeting, at the discretion of the presiding officer. Comments on the topics presented in this notice and at the meeting should be mailed to the NIOSH Docket Office, Robert A. Taft Laboratories, M/S C34, 4676 Columbia Parkway, Cincinnati, Ohio 45226, Telephone 513-533-8303, Fax 513/533-8285. Comments may also be submitted by e-mail to niocindocket@cdc.gov. E-mail attachments should be formatted as WordPerfect 6/7/8/9 or Microsoft Word. Comments should be submitted to NIOSH no later than November 16, 2003, and should reference Docket Number NIOSH-001 in the subject heading.

Purpose: NIOSH has initiated conceptual discussions for quality assurance standards for respiratory protective equipment. The concepts for the update of 42 CFR part 84 to address quality assurance provisions, establish fees, improve labels and update certain administrative provisions were presented in a public meeting held on June 25, 2003. Participants will be given an opportunity to ask questions on these topics and to present individual comments for consideration. Interested participants may obtain a copy of the quality assurance concept paper from the NPPTL web site, address: www.cdc.gov/niosh/npptl. The July 21, 2003, concept paper and the information presented at the June 25, 2003, public meeting will be used as the basis for discussion at the October 16, 2003, public meeting. Responses to the comments received since the June 25, 2003, meeting will also be discussed. NIOSH has the lead in developing standards or guidelines to test, evaluate, and approve respirators for use in occupational settings. International trade has led to changes in accepted quality assurance practice in manufacturing environments throughout the world. In attempting to keep respirator standards abreast of current manufacturing practice, NIOSH has met with the public and respirator manufacturers to receive input on the development of new respirator quality assurance standards. NIOSH hosted the most recent of these public meetings on June 25, 2003, where concepts developed up to that date were presented.

CONTACT FOR ADDITIONAL INFORMATION: NIOSH Event Management, 3610 Collins Ferry Road, PO Box 880, Morgantown, West Virginia 26507-0880, Telephone 304-285-4750, Fax 304-285-4459, E-mail npptlevents@cdc.gov.

The Director, Management Analysis and Services Office, has been delegated the authority to sign Federal Register Notices pertaining to announcements of meetings and other committee management activities, for both CDC and the Agency for Toxic Substances and Disease Registry.

Dated: September 11, 2003.
Alvin Hall,
Director, Management Analysis and Services Office, Centers for Disease Control and Prevention.

[FR Doc. 03-23685 Filed 9-16-03; 8:45 am]

BILLING CODE 4163-19-P